ENVIRONMENTAL PROTECTION AGENCY

[EPA-HQ-OAR-2003-0033; FRL-12646-01-OAR]

Proposed Information Collection Request; Comment Request; Information Collection Activities Associated With EPA's Energy Star® Product Labeling (Renewal)

AGENCY: Environmental Protection Agency (EPA).

ACTION: Notice.

SUMMARY: The Environmental Protection Agency (EPA) is planning to submit an information collection request (ICR), “EPA's Energy Star Product Labeling” (EPA ICR Number 2078.09, OMB Control Number 2060-0528) to the Office of Management and Budget (OMB) for review and approval in accordance with the Paperwork Reduction Act. Before doing so, EPA is soliciting public comments on specific aspects of the proposed information collection as described below. This is a proposed extension of the ICR, which is currently approved through November 30, 2025. This notice allows for 60 days for public comments.

DATES: Comments must be submitted on or before September 30, 2025.

ADDRESSES: Submit your comments, referencing Docket ID Number EPA-HQ-OAR-2025-0086; FRL-12646-01-OAR, to EPA online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

FOR FURTHER INFORMATION CONTACT: James Kwon, Climate Protection Partnerships Division, Office of Air and Radiation, Mailcode 6202A, Environmental Protection Agency, 1200 Pennsylvania Ave. NW, Washington, DC 20460; telephone number: 202-564-8538; fax number: 202-343-2200; email address: kwon.james@epa.gov.

SUPPLEMENTARY INFORMATION: This is a proposed extension of the ICR, which is currently approved through November 30, 2025. An agency may not conduct or sponsor and a person is not required to respond to a collection of information unless it displays a currently valid OMB control number.

This notice allows 60 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate forms of information technology. EPA will consider the comments received and amend the ICR as appropriate. The final ICR package will then be submitted to OMB for review and approval. At that time, EPA will issue another Federal Register notice to announce the submission of the ICR to OMB and the opportunity to submit additional comments to OMB.

Abstract: ENERGY STAR is a voluntary program developed in collaboration with industry to create a self-sustaining market for energy efficient products. The ENERGY STAR label is a registered certification label that helps consumers identify products that meet ENERGY STAR energy performance criteria. In order to protect the integrity of the label and enhance its effectiveness in the marketplace, EPA must ensure that products carrying the label meet appropriate program requirements.

Program participants submit signed Partnership Agreements indicating that they will adhere to logo-use guidelines and program requirements. Retail partners commit to selling, marketing, and promoting ENERGY STAR certified products. Product brand owner partners, who are usually the manufacturer of the products, commit to having participating products certified to meet specified energy performance criteria based on a standard test method and EPA's third-party certification requirements. These requirements for ENERGY STAR product certification also include provisions for verifying the performance of certified products through verification testing. The program's emphasis on testing and third-party product review ensures that consumers can trust ENERGY STAR certified products to deliver the energy savings promised by the label. In rare circumstances where product brand licensee's wish to partner with EPA, the Agency establishes the appropriate contacts and relationships for the brand owner and licensee through a joint brand owner and licensee template that both parties are required to sign.

EPA sets criteria for ENERGY STAR products and facilitates the sale of certified products by providing consumers with information about the products. To set criteria for efficient products, EPA analyzes data on the performance of products in select categories and in some cases needs to request additional information on performance where data is not already available. Based on guiding principles and using established processes, EPA works with stakeholders to set criteria based on this data. Once criteria are set and products are certified, EPA obtains data on certified products in order to make that information available to consumers. Product information is obtained by Certification Bodies who certify performance and shared with EPA using XML-based web services that validate and save the information in EPA's database. With the automated process of obtaining certified product data, certified model data is automatically updated daily on the ENERGY STAR website.

To ensure that products are certified properly, the certification process also includes requirements for Certification Bodies to report to EPA products that were reviewed, but not eligible for certification. To ensure continued product performance after initial certification, EPA requires Certification Bodies to conduct post-market verification testing of a sampling of ENERGY STAR certified products. Certification Bodies are required to share information with EPA on products subjected to this post-market testing twice a year and to immediately report any certified products that no longer meet the program requirements. This process allows EPA to monitor the ongoing performance of products and maintain program integrity.

In order to monitor progress and support the best allocation of resources, EPA also asks brand owner partners to submit annual shipment data for their ENERGY STAR certified products. EPA is flexible as to the methods by which partners may submit unit shipment data. For example, many partners are given the option of arranging for shipment data to be sent to EPA via a third party to ensure confidentiality. In using any shipment data received directly from a partner, EPA only shares aggregate information from multiple partners so as to protect confidentiality. Finally, any ENERGY STAR recognition may ask Partners to submit applications if they wish to participate.

Instrument/Form Numbers: 5900-163, 5900-164, 5900-165, 5900-166, 5900-168, 5900-207, 5900-208, 5900-216, 5900-217, 5900-218, 5900-224, 5900-227, 5900-228, 5900-230, 5900-234, 5900-251, 5900-252, 5900-253, 5900-254, 5900-255, 5900-28, 5900-33, 5900-34, 5900-348, 5900-35, 5900-35, 5900-350, 5900-351, 5900-36, 5900-37, 5900-38, 5900-388, 5900-39, 5900-41, 5900-415, 5900-416, 5900-417, 5900-42, 5900-43, 5900-438, 5900-439, 5900-44, 5900-440, 5900-47, 5900-48, 5900-49, 5900-50, 5900-501, 5900-51, 5900-53, 5900-54, 5900-55, 5900-56, 5900-57, 5900-58, 5900-483, 5900-719, 5900-720, 5900-671, 5900-670, 5900-719, 5900-720, 5900-671, 5900-671.

Respondents/affected entities: Respondents for this information collection request include Partners in ENERGY STAR.

Respondent's obligation to respond: voluntary.

Estimated number of respondents: 2,732 (total).

Frequency of response: Initially/one-time, on occasion, semi-annually, and annually.

Total estimated burden: 40,391 hours (per year). Burden is defined at 5 CFR 1320.03(b).

Total estimated cost: $2,546,557 (per year), which includes $0 annualized capital or operation & maintenance costs.

Changes in the Estimates: The burden estimates presented in this notice are from the last approval. EPA is currently evaluating and updating these estimates as part of the ICR renewal process. EPA will discuss its updated estimates, as well as changes from the last approval, in the next Federal Register notice to be issued for this renewal.

Suzanne Kocchi,
Associate Director, Office of Atmospheric Protection, Office of Air and Radiation.

[FR Doc. 2025-14536 Filed 7-31-25; 8:45 am]

BILLING CODE 6560-50-P